DEPARTMENT OF THE TREASURY

Submission for OMB Review; Comment Request

July 8, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before August 19, 2005 to be assured of consideration.

Internal Revenue Service (IRS)

OMB Number: 1545-0096.

Form Numbers: IRS Forms 1042, 1042-S and 1042-T.

Type of Review: Extension.

Title: Form 1042: Annual Withholding Tax Return for U.S. Source Income of Foreign Persons; Form 1042-S: Foreign Person's U.S. Source Income Subject to Withholding; and Form 1042-T: Annual Summary and Transmittal of Forms 1042-S.

Description: Form 1042 is used by withholding agents to report tax withheld at source on certain income paid on nonresident alien individuals, foreign partnerships, and foreign corporations to the IRS. Form 1042-S is used by withholding agents to report income and tax withheld to payees. A copy of each 1042-S is filed magnetically or with /form 1042 for information reporting purposes. The IRS uses this information to verify that the correct amount of tax has been withheld and paid to the United States. Form 1042-T is used by withholding agents to transmit Forms 1042-S to the IRS.

Respondents: Business and other for-profit, Individuals or households.

Estimated Number of Respondents/Recordkeepers: 22,000.

Estimated Burden Hours Respondent/Recordkeeper:

Form | Recordkeeping | Learning about the law or the form | Preparing the form | Copying, assembling, and sending the form to the IRS
1042 | 9 hr., 48 min. | 2 hr., 25 min. | 4 hr., 33 min. | 32 min.
1042-S | 0 min. | 0 min. | 25 min. | 0 min.
1042-T | 0 min. | 0 min. | 12 min. | 0 min.

Frequency of Response: Annually.

Estimated Total Reporting/Recordkeeping Burden: 1,056,940. hours.

OMB Number: 1545-1393.

Regulation Project Number: EE-14-81 NPRM.

Type of Review: Extension.

Title: Deductions and Reductions in Earnings and profits (or Accumulated Profits) With Respect to Certain Foreign Deferred Compensation Plans Maintained by Certain Foreign Corporations or by Foreign Branches of Domestic Corporations.

Description: The regulation provides guidance regarding the limitations on deductions and adjustments to earnings and profits (or accumulated profits) for certain foreign deferred compensation plans. Respondents will be multinational corporations.

Respondents: Business and other for-profit.

Estimated Number of Respondents/Recordkeepers: 1,250.

Estimated Burden Hours Respondent/Recordkeeper: 508 hours.

Frequency of Response: On occasion.

Estimated Total Reporting/Recordkeeping Burden: 634,450 hours.

OMB Number: 1545-1484.

Regulation Project Number: REG-242282-97 Final (formerly INTL-62-90, INTL-32-90, INTL-52-86 and INTL 52-94).

Type of Review: Extension.

Title: General Revision of Regulations Relating to Withholding of Tax on U.S. Source Income Paid to Foreign Persons and Related Collection, Refunds, and Credits; Revision of Information Reporting and Backup Withholding Regulations; and Removal of Regulations Under Part 35a and of Certain Regulations Under Income Tax Treaties.

Description: The regulations are needed to provide guidance relating to the withholding of income of nonresident alien individuals and foreign corporations.

Respondents: Business and other for-profit, Individuals or households, Not-for-profit institutions, Farms, Federal government, State, local or tribal government.

Estimated Number of Respondents/Recordkeepers: 1.

Estimated Burden Hours Respondent/Recordkeeper: 1 hour.

Frequency of Response: On occasion.

Estimated Total Reporting/Recordkeeping Burden: 1 hour.

OMB Number: 1545-1772.

Form Number: IRS Form 8717.

Type of Review: Extension.

Title: User Fee for Employee Plan/determination Letter Request.

Description: The Omnibus Reconciliation Act of 1990 requires payment of a “user fee” with each application for a determination letter. Because of this requirement, the Form 8717 was created to provide filers the means to make payment and indicate the type of request.

Respondents: Business and other for-profit, Not-for-profit institutions.

Estimated Number of Respondents: 100,000.

Estimated Burden Hours Respondent: 3 hours, 24 minutes.

Frequency of Response: On occasion.

Estimated Total Reporting Burden: 341,000 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Lois K. Holland,
Treasury PRA Clearance Officer.

[FR Doc. 05-14230 Filed 7-19-05; 8:45 am]

BILLING CODE 4830-01-P